DEPARTMENT OF COMMERCE

International Trade Administration

A-570-827

Notice of Continuation of Antidumping Duty Order on Certain Cased Pencils from the People's Republic of China

AGENCY: Import Administration, International Trade Administration, Department of Commerce.

EFFECTIVE DATE: December 20, 2005.

FOR FURTHER INFORMATION CONTACT: Maureen Flannery at (202) 482-3020 or Paul Stolz at (202) 482-4474, AD/CVD Operations, International Trade Administration, U.S. Department of Commerce, 14th Street and Constitution Avenue, NW, Washington, DC, 20230.

SUMMARY: The U.S. Department of Commerce (Department), pursuant to section 751(c) of the Tariff Act of 1930, as amended (the Act), has determined that revocation of the antidumping duty order on certain cased pencils (pencils) from the People's Republic of China (PRC) would likely lead to continuation or recurrence of dumping. On December 6, 2005, the International Trade Commission (ITC), pursuant to section 751(c) of the Act, determined that revocation of the antidumping duty order on pencils from the PRC would likely lead to continuation or recurrence of material injury to an industry in the United States within a reasonably foreseeable time. Therefore, pursuant to 19 CFR 351.218(f)(4), the Department is publishing notice of the continuation of the antidumping duty order on pencils from the PRC.

SUPPLEMENTARY INFORMATION:

Background

On July 1, 2005, the Department initiated, and the ITC instituted, a sunset review of the antidumping duty order on pencils from the PRC, pursuant to section 751(c) of the Act. See Initiation of Five-Year (Sunset) Reviews, 70 FR 38101 (July 1, 2005) and Cased Pencils from China, 70 FR 38192 (July 1, 2005). As a result of its review, the Department found that revocation of the antidumping duty order would likely lead to continuation or recurrence of dumping and notified the ITC of the magnitude of the margins likely to prevail were the order revoked. See Certain Cased Pencils from the People's Republic of China (PRC); Notice of Final Results of Expedited Sunset Review of Antidumping Duty Order, 70 FR 67427 (November 7, 2005). On November 15, 2005, the ITC determined, pursuant to section 751(c) of the Act, that revocation of the antidumping duty order on pencils would likely lead to continuation or recurrence of material injury to an industry in the United States within a reasonably foreseeable time. See Cased Pencils from China, 70 FR 72652 (December 6, 2005).

Scope of the Order

Imports covered by this order are shipments of certain cased pencils of any shape or dimension (except as noted below) which are writing and/or drawing instruments that feature cores of graphite or other materials, encased in wood and/or man-made materials, whether or not decorated and whether or not tipped (e.g., with erasers, etc.) in any fashion, and either sharpened or unsharpened. The pencils subject to the order are classified under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil.

Although the HTSUS subheading is provided for convenience and customs purposes, our written description of the scope of the order is dispositive.

Determination

As a result of the determinations by the Department and the ITC that revocation of this antidumping duty order would be likely to lead to continuation or recurrence of dumping and material injury to an industry in the United States, pursuant to section 751(d)(2) of the Act, the Department hereby orders the continuation of the antidumping duty order on pencils from the PRC. U.S. Customs and Border Protection will continue to collect antidumping duty deposits at the rates in effect at the time of entry for all imports of subject merchandise. The effective date of continuation of this order is the date of publication in the Federal Register of this Notice of Continuation. Pursuant to sections 751(c)(2) and 751(c)(6) of the Act, the Department intends to initiate the next five-year review of this order not later than November 2010.

We are issuing and publishing the results and notice in accordance with sections 751(c) and 777(i)(1) of the Act.

Dated: December 13, 2005.
Stephen J. Claeys,
Acting Assistant Secretary for Import Administration.

[FR Doc. E5-7560 Filed 12-19-05; 8:45 am]

BILLING CODE 3510-DS-S